DEPARTMENT OF THE INTERIOR

National Park Service

National Register of Historic Places; Notification of Pending Nominations and Related Actions

Nominations for the following properties being considered for listing or related actions in the National Register were received by the National Park Service before May 3, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 29, 2008.

J. Paul Loether,
Chief, National Register of Historic Places/National Historic Landmarks Program.

CALIFORNIA

Sacramento County

Southern Pacific Railroad Section Superintendent House, 815 Oakdale St., Folsom, 08000501

FLORIDA

Gadsden County

Gretna School, 722 Church St., Gretna, 08000502

ILLINOIS

Cook County

Epworth Methodist Episcopal Church, 5253 N. Kenmore Ave., Chicago, 08000503

Ogle County

Village of Davis Junction Town Hall, 202 Pacific Ave., Davis Junction, 08000504

MASSACHUSETTS

Hampden County

Westfield Center Commercial Historic District, 91-115, 100-174 Elm St., Westfield, 08000506

Middlesex County

St. George Antiochian Orthodox Church, 61 Bowers St., Lowell, 08000507

MISSOURI

St. Louis Independent City

Oakview Place Apartments, 1014-1038 Oakview Pl., St. Louis (Independent City), 08000508

NEVADA

Churchill County

Cottage Schools, The, 255 E. Stillwater Ave., Fallon, 08000509

Lincoln County

Smith Hotel—Cornelius Hotel, 100 Spring St., Caliente, 08000510

Washoe County

Veterans of Foreign Wars Building, 301 Burris Ln., Reno, 08000511

NEW HAMPSHIRE

Merrimack County

Hersey Farms Historic District, 1057 & 1088 Franklin Hwy., Andover, 08000512

NEW YORK

Dutchess County

St. Luke's Episcopal Church Complex, Wolcott Ave. & Rector St., Beacon, 08000517

Orange County

St. Andrew's Episcopal Church & Rectory, 13 & 15 Walnut St., Walden, 08000513

Suffolk County

Hawkins, Jedediah, House, 400 S. Jamesport Ave., Jamesport, 08000514

Woodhull, Benjamin King, House, 126 Sound Rd., Wading River, 08000515

Washington County

Town—Hollister Farm, NY 22, North Granville, 08000516

PENNSYLVANIA

Bucks County

Langhorne Manor School, (Educational Resources of Pennsylvania MPS) 618 Hulmeville Rd., Langhorne Manor, 08000518

Elk County

Lake City School, 27586 Lake City Rd., Lake City, 08000519

Lancaster County

Mylin, Martin and Barbara, House and Barns, (Historic Farming Resources of Lancaster County MPS) 211 Willow Valley Sq. (West Lampeter Township), Willow Street, 08000520

Lehigh County

Knauss, Heinrich, House, 152 E. Main St., Emmaus, 08000521

Philadelphia County

Gomery—Schwartz Autocar Building, 130-140 N. Broad St., Philadelphia, 08000522

York County

York Casket Company, 700-710 Linden Ave., York, 08000523

VIRGINIA

Suffolk Independent City

Knotts Creek—Belleville Archeological Site, Address Restricted, Suffolk (Independent City), 08000524

Surry County

Mount Pleasant Architectural and Archeological Complex, Address Restricted, Spring Grove, 08000525

In the interest of preservation the comment period for the following resource has been shortened to Three (3) days.

IOWA

Montgomery County

Murphy, Thos. D. Co. Factory And Power Plant, 110 S. 2nd St., Red Oak, 08000505

A request for REMOVAL has been made for the following resources:

MINNESOTA

Blue Earth County

Kennedy Bridge, Twp. Rd. 167 over Le Sueur R. Mankato, 89001832

VIRGINIA

Charles City County

Rowe, The, 3 mi. SW. of Rustic, Rustic, 800004442

Virginia Beach Independent City

Bayville Farm, VA 650, Virginia Beach (Independent City), 80004317

[FR Doc. E8-10712 Filed 5-13-08; 8:45 am]

BILLING CODE 4312-51-P